DEPARTMENT OF ENERGY

Federal Energy Regulatory Commission

Combined Notice of Filings #1

June 29, 2007.

Take notice that the Commission received the following electric rate filings:

Docket Numbers: ER05-1065-010.

Applicants: Entergy Services, Inc.

Description: Entergy Operating Companies submits its compliance filing in accordance with Commission's May 25, 2007 Order.

Filed Date: 06/25/2007.

Accession Number: 20070627-0102.

Comment Date: 5 p.m. Eastern Time on Monday, July 16, 2007.

Docket Numbers: ER07-157-001, ER06-398-002, ER06-399-002, ER04-268-005, ER98-4159-008.

Applicants: Macquarie Cook Power, Inc.; Duquesne Keystone LLC; Duquesne Conemaugh LLC; Duquesne Power, LLC; Duquesne Light Company.

Description: Macquarie Cook Power, Inc et al submit their notice of change in status related to the 5/31/07 acquisition of Duquesne Light Holdings, Inc.

Filed Date: 06/25/2007.

Accession Number: 20070627-0101.

Comment Date: 5 p.m. Eastern Time on Monday, July 16, 2007.

Docket Numbers: ER07-613-004, ER07-1077-000.

Applicants: California Independent System Operator Corporation.

Description: California Independent System Operator Corp submits amendments to the ISO Tariff 2007 Congestion Revenue Rights Credit Policy Amendment.

Filed Date: 06/22/2007.

Accession Number: 20070627-0104.

Comment Date: 5 p.m. Eastern Time on Friday, July 13, 2007.

Docket Numbers: ER07-1076-000.

Applicants: Upper Peninsula Power Company.

Description: Upper Peninsula Power Co submits a letter of understanding with the City of Escanaba, Michigan, will begin on 6/25/07.

Filed Date: 06/25/2007.

Accession Number: 20070627-0108.

Comment Date: 5 p.m. Eastern Time on Monday, July 16, 2007.

Docket Numbers: ER07-1078-000.

Applicants: American Electric Power Service Corporation.

Description: AEP Operating Companies submit an Interconnection and Local Delivery Service Agreement with the Village of Glouster, Ohio.

Filed Date: 06/26/2007.

Accession Number: 20070628-0084.

Comment Date: 5 p.m. Eastern Time on Tuesday, July 17, 2007.

Docket Numbers: ER07-1079-000.

Applicants: American Electric Power Service Corporation.

Description: Ohio Power Co and Columbus Southern Power Company submit their eighth revision to the Interconnection and Local Delivery Service Agreement with Buckeye Power, Inc.

Filed Date: 06/26/2007.

Accession Number: 20070628-0085.

Comment Date: 5 p.m. Eastern Time on Tuesday, July 17, 2007.

Docket Numbers: ER07-1080-000.

Applicants: American Electric Power Service Corporation.

Description: AEP Operating Companies submits an Interconnection and Local Delivery Service Agreement with the Village of Woodsfield, Woodsfield, Ohio.

Filed Date: 06/26/2007.

Accession Number: 20070628-0086.

Comment Date: 5 p.m. Eastern Time on Tuesday, July 17, 2007.

Docket Numbers: ER07-1081-000.

Applicants: Southern California Edison Company.

Description: Southern California Edison submits a Large Generator Interconnection Agreement etc for Wholesale Distribution Service between the Transmission and Distribution Business Unit of SCE et al for the Mira Loma Peaker Project.

Filed Date: 06/26/2007.

Accession Number: 20070628-0221.

Comment Date: 5 p.m. Eastern Time on Tuesday, July 17, 2007.

Docket Numbers: ER07-1082-000.

Applicants: Southern California Edison Company.

Description: Southern California Edison submits a Large Generator Interconnection Agreement etc for Wholesale Distribution Service between the Transmission and Distribution Business Unit of SCE et al for the Grapeland Peaker Project.

Filed Date: 06/26/2007.

Accession Number: 20070628-0220.

Comment Date: 5 p.m. Eastern Time on Tuesday, July 17, 2007.

Docket Numbers: ER07-1083-000.

Applicants: Southern California Edison Company.

Description: Southern California Edison submits a Large Generator Interconnection Agreement etc for Wholesale Distribution Service between the Transmission and Distribution Business Unit of SCE et al for the Center Peaker Project.

Filed Date: 06/26/2007.

Accession Number: 20070628-0219.

Comment Date: 5 p.m. Eastern Time on Tuesday, July 17, 2007.

Docket Numbers: ER07-1084-000.

Applicants: Southern California Edison Company.

Description: Southern California Edison submits a Large Generator Interconnection Agreement etc for Wholesale Distribution Service between the Transmission and Distribution Business Unit of SCE et al for the Barre Peaker Project.

Filed Date: 06/26/2007.

Accession Number: 20070628-0218.

Comment Date: 5 p.m. Eastern Time on Tuesday, July 17, 2007.

Docket Numbers: ER07-1085-000.

Applicants: Niagara Mohawk Power Corporation.

Description: Niagara Mohawk Power Corp dba National Grid submits an Amended and Restated Power Sales Agreement with Fulton Cogeneration Associates, LP, designated as Service Agreement 1150.

Filed Date: 06/26/2007.

Accession Number: 20070628-0082.

Comment Date: 5 p.m. Eastern Time on Tuesday, July 17, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov or call (866) 208-3676 (toll free). For TTY, call (202) 502-8659.

Kimberly D. Bose,
Secretary,

[FR Doc. E7-13064 Filed 7-3-07; 8:45 am]

BILLING CODE 6717-01-P